DEPARTMENT OF JUSTICE

Office of Justice Programs

[OMB Number 1121-0030]

Agency Information Collection Activities; Proposed Collection; Comments Requested; Extension of a Currently Approved Collection: Capital Punishment Report of Inmates Under Sentence of Death

ACTION: 30-Day notice.

The Department of Justice (DOJ), Office of Justice Programs, Bureau of Justice Statistics will be submitting the following information collection request to the Office of Management and Budget (OMB) for review and approval in accordance with the Paperwork Reduction Act of 1995. The proposed information collected is published to obtain comments from the public and affected agencies. The proposed information collected was previously published in the Federal Register Volume 78, Number 137, page 42802-42803, on July 17, 2013, allowing a 60-day comment period.

The purpose of this notice is to allow for an additional 30 days for public comment until October 23, 2013. This process is conducted in accordance with 5 CFR 1320.10.

Written comments and/or suggestions regarding the items contained in this notice, especially the estimated public burden or associated response time, should be directed to The Officer of Management and Budget, Officer of Information and Regulatory Affairs, Attention Department of Justice Desk Officer, Washington DC 20503. Additionally, comments may be submitted to OMB via facsimile to (202) 395-7285.

Request written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility and clarity of the information to be collected; and

(4) Minimize the burden of the collection of information on those who are to respond, including through the use of appropriate automated, electronic, mechanical, or other technological collection techniques or other forms of information technology, e.g., permitting electronic submission of responses.

Overview of This Information Collection

(1) Type of information collection: Extension of a currently approved collection.

(2) The title of the Form/Collection: Capital Punishment Report of Inmates under Sentence of Death.

(3) Agency form number, if any, and the applicable component of the Department of Justice sponsoring the collection: Form Number: NPS-8, Report of Inmates under Sentence of Death; NPS-8A Update Report of Inmate under Sentence of Death; NPS-8B Status of Death Penalty—No Statute in Force; and NPS-8C Status of Death Penalty—Statute in Force. Bureau of Justice Statistics, Office of Justice Programs, United States Department of Justice.

(4) Affected public who will be asked to respond, as well as a brief abstract: Primary: State Departments of Corrections and Attorneys General. Others: The Federal Bureau of Prisons. Approximately 104 respondents (2 from each State, the District of Columbia, and the Federal Bureau of Prisons) responsible for keeping records on inmates under sentence of death in their jurisdiction and in their custody will be asked to provide information for the following categories: Condemned inmates' demographic characteristics, legal status at the time of capital offense, capital offense for which imprisoned, number of death sentences imposed, criminal history information, reason for removal and current status if no longer under sentence of death, method of execution, and cause of death by means other than execution. The Bureau of Justice Statistics uses this information in published reports and for the U.S. Congress, Executive Office of the President, State Officials, international organizations, researchers, students, the media, and others interested in criminal justices statistics.

(5) An estimate of the total number of respondents and the amount of time estimated for an average respondent to respond: 117 responses at 30 minutes each for the NPS-8; 3,215 responses at 30 minutes each for the NPS-8A; and 52 responses at 15 minutes each for the NPS-8B or NPS-8C.

(6) An estimate of the total public burden (in hours) associated with the collection: There are an estimated 1,679 annual total burden hours associated with the collection.

If additional information is required contact: Jerri Murray, Department Clearance Officer, United States Department of Justice, Justice Management Division, Policy and Planning Staff, Two Constitution Avenue, 145 N Street NE., Room 3W-1407B, Washington, DC 20530.

Dated: September 18, 2013.
Jerri Murray,
Department Clearance Officer for PRA, U.S. Department of Justice.

[FR Doc. 2013-23026 Filed 9-20-13; 8:45 am]

BILLING CODE 4410-18-P